DEPARTMENT OF HOMELAND SECURITY

Customs and Border Protection

Notice of Withholding of Certain Distributions on Continued Dumping and Subsidy Offset to Affected Domestic Producers

AGENCY: Customs and Border Protection, Department of Homeland Security.

ACTION: Notice of the withholding of certain offset distributions for Fiscal Year 2006 and subsequent years.

SUMMARY: This document notifies the public that Customs and Border Protection (CBP), consistent with the Court of International Trade's recent decision in Canadian Lumber Trade Alliance et al. v. United States, will be withholding distributions under the Continued Dumping and Subsidy Offset Act of 2000 that derive from antidumping and countervailing duties assessed on goods from Canada or Mexico. Fiscal year 2006 CDSOA distributions that derive from antidumping or countervailing duties on other than Canadian or Mexican goods are not affected.

DATES: Effective Date: September 28, 2006.

FOR FURTHER INFORMATION CONTACT: Leigh Redelman, Revenue Division, Programs Branch, Office of Finance, (317) 614-4462.

SUPPLEMENTARY INFORMATION:

Background

The Court of International Trade (CIT) held in Canadian Lumber Trade Alliance et al. v. United States, Slip Op. 06-48 (April 7, 2006) (CLTA I) and Slip Op. 06-104 (July 14, 2006) (CLTA II), that pursuant to Section 408 of the North American Free Trade Agreement Implementation Act (codified at 19 U.S.C. 3438), the Continued Dumping and Subsidy Offset Act of 2000 (CDSOA) (codified at 19 U.S.C. 1675c) does not apply to antidumping and countervailing duties assessed on imports of goods from Canada or Mexico.

Specifically, the CIT held in CLTA I that the Commissioner of Customs and Border Protection (CBP) “has no authority either under an Act of Congress or under the Constitution” to make distributions that derive from antidumping and countervailing duties assessed on goods from Canada or Mexico, and that the Commissioner's actions in having previously distributed such funds were “ultra vires and therefore unlawful.”

Consequently, pending the outcome of any appeal, CBP will withhold fiscal year 2006 and subsequent years' CDSOA distributions to the extent they derive from duties assessed pursuant to countervailing duty orders, antidumping duty orders, or findings under the Antidumping Act of 1921, on imports of goods from Canada or Mexico. Any funds inadvertently distributed under these cases for fiscal year 2006 or subsequent years will be subject to immediate recovery under applicable statutes and regulations, including 19 CFR 159.64.

Fiscal year 2006 CDSOA distributions that derive from antidumping or countervailing duties on other than Canadian or Mexican goods will be made in accordance with established procedures in accordance with the “Notice of intent to distribute offset for Fiscal Year 2006,” as published in the Federal Register (71 FR 31336) on June 1, 2006.

Dated: September 22, 2006.
Deborah J. Spero,
Acting Commissioner, Customs and Border Protection.

[FR Doc. E6-15886 Filed 9-27-06; 8:45 am]

BILLING CODE 9111-14-P